DEPARTMENT OF COMMERCE

National Oceanic and Atmospheric Administration

RIN 0648-XC923

New England Fishery Management Council; Public Meeting

AGENCY: National Marine Fisheries Service (NMFS), National Oceanic and Atmospheric Administration (NOAA), Commerce.

ACTION: Notice; public meeting.

SUMMARY: The New England Fishery Management Council (Council) will hold public meeting of its ABC Control Rule Working Group (ABC WG).

DATES: The meeting of the ABC Control Rule Working Group will be on Friday, November 8, 2013 and it will be held at the Doubletree by Hilton in Danvers, MA starting at 10 a.m. Additional meetings may be held between November 4, 2013 and January 31, 2014. Specific information about the dates, times and places for this meeting will be posted on the Council's Web site, http://nefmc.org/.

FOR FURTHER INFORMATION CONTACT: Thomas A. Nies, Executive Director, New England Fishery Management Council; telephone: (978) 465-0492.

SUPPLEMENTARY INFORMATION: The ABC Control Rule Working Group will continue to prepare a work plan regarding how the New England Fishery Management Council (Council) may proceed in developing ABC (acceptable biological catch) control rules that incorporate a risk policy. The goal of the work plan will be to enable the Council to consider/approve a process for developing the risk policy as a 2014 Council priority. The work plan will be considered during the Council's discussion of 2014 management priorities (November 2013 Council meeting).

This meeting is physically accessible to people with disabilities. Requests for sign language interpretation or other auxiliary aids should be directed to Thomas A. Nies, Executive Director, at 978-465-0492, at least 5 days prior to the meeting date.

Authority: 16 U.S.C. 1801 et seq.

Dated: October 17, 2013.
Tracey L. Thompson,
Acting Deputy Director, Office of Sustainable Fisheries, National Marine Fisheries Service.

[FR Doc. 2013-24679 Filed 10-21-13; 8:45 am]

BILLING CODE 3510-22-P